DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before May 13, 2010. Address written comments to Statutory Import Programs Staff, Room 3720, U.S. Department of Commerce, Washington, D.C. 20230. Applications may be examined between 8:30 A.M. and 5:00 P.M. at the U.S. Department of Commerce in Room 3720.

Docket Number: 10-005. Applicant: Liquid Crystal Institute, Kent State University, Summit Street, PO Box 5190, Kent, OH 44242. Instrument: Electron Microscope. Manufacturer: FEI Company, the Czech Republic. Intended Use: This instrument will be used to study the structure and composition of soft materials (liquid crystals, polymers, biomaterials). Justification for Duty-Free Entry: There are no domestic manufactures of this instrument. Application accepted by Commissioner of Customs: March 24, 2010.

Docket Number: 10-006. Applicant: Purdue University, 915 W. State Street, Lilly Hall, B126, West Lafayette, IN 47907-2054. Instrument: Electron Microscope. Manufacturer: FEI Corporation, the Netherlands. Intended Use: The instrument is intended to be used to study viruses and other macromolecular assemblies. Using cryo-electron microscopy, numerous virus/macromolecular assemblies will be investigated to better understand virus entry into cells as well as the propagation pathway. Justification for Duty-Free Entry: There are no domestic manufactures of this instrument. Application accepted by Commissioner of Customs: March 24, 2010.

Docket Number: 10-007. Applicant: Washington University in St. Louis, Purchasing Department, 1 Brookings Drive, Campus Box 1069, St. Louis, MO 63130. Instrument: Electron Microscope. Manufacturer: JEOL, Ltd., Japan. Intended Use: This instrument will be use to analyze and characterize medically relevant cells, tissues, and molecules. The objective is to understand the molecular and cellular basis of a wide range of human diseases. Justification for Duty-Free Entry: There are no domestic manufactures of this instrument. Application accepted by Commissioner of Customs: March 24, 2010.

Dated: April 19, 2010.
Christopher Cassel,
Director, IA Subsidies Enforcement Office.

[FR Doc. 2010-9478 Filed 4-22-10; 8:45 am]

BILLING CODE 3510-DS-S